DEPARTMENT OF HOMELAND SECURITY

Coast Guard

33 CFR Part 165

[Docket No. USCG-2017-0091]

Safety Zone; Monongahela 4th of July Celebration, Monongahela River Miles 32.0 to 33.0, Monongahela, PA

AGENCY: Coast Guard, DHS.

ACTION: Notice of enforcement of regulation.

SUMMARY: The Coast Guard will enforce the subject safety zone for the Monongahela Area Chamber of Commerce's Monongahela 4th of July Celebration on the Monongahela River, from mile marker (MM) 32.0 to MM 33.0, extending the entire width of the river. The zone is needed to protect vessels transiting the area and event spectators from the hazards associated with the Celebration's land-based firework display. During the enforcement period, entry into, transiting, or anchoring in the safety zone is prohibited to all vessels not registered with the sponsor as participants or official patrol vessels, unless specifically authorized by the Captain of the Port Pittsburgh (COTP) or a designated representative.

DATES: The regulations in 33 CFR 165.801 Table 1, Sector Ohio Valley, No. 46 will be enforced from 9:15 p.m. until 11 p.m., on July 4, 2017 with a rain date of July 5, 2017.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the Safety Zone for the Monongahela Area Chamber of Commerce's Monongahela 4th of July Celebration on the Monongahela River, listed in 33 CFR 165.801 Table 1, Sector Ohio Valley, No. 46 from 9:15 p.m. to 11 p.m. on July 4, 2017 with a rain date of July 5, 2017. Entry into the safety zone is prohibited unless authorized by the COTP or a designated representative. Persons or vessels desiring to enter into or passage through the safety zone must request permission from the COTP or a designated representative. If permission is granted, all persons and vessels shall comply with the instructions of the COTP or designated representative.

This notice of enforcement is issued under authority of 33 CFR 165.801 and 5 U.S.C. 552(a). In addition to this notice in the Federal Register, the Coast Guard will provide the maritime community with advance notification of this enforcement period via Local Notice to Mariners and updates via Marine Information Broadcasts.

Dated: March 21, 2017.
L. McClain, Jr.,
Commander, U.S. Coast Guard, Captain of the Port Pittsburgh.

[FR Doc. 2017-07516 Filed 4-12-17; 8:45 am]

BILLING CODE 9110-04-P